DEPARTMENT OF LABOR

Employment and Training Administration

[TA-W-65,724]

Ryerson, Inc., Portland, OR; Notice of Termination of Investigation

Pursuant to Section 221 of the Trade Act of 1974, as amended, an investigation was initiated on April 1, 2009 in response to a worker petition filed on behalf of workers at Ryerson, Inc., Portland, Oregon.

The petitioners have requested that the petition be withdrawn. Consequently, the investigation has been terminated.

Signed at Washington, DC, this 10th day of April 2009.
Richard Church,
Certifying Officer, Division of Trade Adjustment Assistance.

[FR Doc. E9-10890 Filed 5-8-09; 8:45 am]

BILLING CODE 4510-FN-P